NUCLEAR REGULATORY COMMISSION

10 CFR Part 72

RIN 3150-AI21

List of Approved Spent Fuel Storage Casks: TN-68 Revision 1, Confirmation of Effective Date

AGENCY: Nuclear Regulatory Commission.

ACTION: Direct final rule: confirmation of effective date.

SUMMARY: The Nuclear Regulatory Commission (NRC) is confirming the effective date of October 30, 2007, for the direct final rule that was published in the Federal Register on August 16, 2007 (72 FR 45880). This direct final rule amended the NRC's regulations to revise the TN-68 cask system listing to include Amendment No. 1 to Certificate of Compliance (CoC) No. 1027.

DATES: Effective Date: The effective date of October 30, 2007, is confirmed for this direct final rule.

ADDRESSES: Documents related to this rulemaking, including any comments received, may be examined at the NRC Public Document Room, located at One White Flint North, 11555 Rockville Pike, Rockville, MD 20852.

FOR FURTHER INFORMATION CONTACT: Jayne M. McCausland, Office of Federal and State Materials and Environmental Management Programs, U.S. Nuclear Regulatory Commission, Washington, DC 20555, telephone (301) 415-6219, e-mail jmm2@nrc.gov.

SUPPLEMENTARY INFORMATION: On August 16, 2007 (72 FR 45880), the NRC published a direct final rule amending its regulations at 10 CFR 72.214 to revise the TN-68 cask system listing within the “List of Approved Spent Fuel Storage Casks” to include Amendment No. 1 to CoC No. 1027. This amendment modifies the CoC by revising several fuel parameters that include increasing fuel burnup to 60 gigawatts-day/metric ton of uranium, increasing total cask decay heat to 30 kilowatts, increasing maximum average fuel enrichment to 4.7 weight percent uranium-235, and decreasing minimum fuel assembly cooling time to 7 years. Amendment No. 1 will also add up to eight damaged fuel assemblies as authorized contents of the cask and reduce the cask spacing on the storage pad. In the direct final rule, NRC stated that if no significant adverse comments were received, the direct final rule would become final on October 30, 2007. The NRC did not receive any comments on the direct final rule. Therefore, this rule will become effective as scheduled.

Dated at Rockville, Maryland, this 22nd day of October, 2007.
For the Nuclear Regulatory Commission.
Michael T. Lesar,
Chief, Rulemaking, Directives and Editing Branch, Division of Administrative Services, Office of Administration.

[FR Doc. E7-21143 Filed 10-25-07; 8:45 am]

BILLING CODE 7590-01-P